DEPARTMENT OF DEFENSE

Department of the Navy

Notice of Intent to Grant Exclusive Patent License; JR Thomas International, Inc.

AGENCY: Department of the Navy, DOD.

ACTION: Notice.

SUMMARY: The Department of the Navy hereby gives notice of its intent to grant to JR Thomas International, Inc., a revocable, nonassignable, exclusive license to practice in the United States, the Government-owned invention described in U.S. Patent Application Serial No.(s) 10/209,265; 10/209,266; 10/209,267; 10/209,268, entitled “A Nofoam System for testing a foam delivery system on a vehicle”, filed July 30, 2002, Navy Case No.(s) 83,826; 84,013; 84,014; and 84,015.

DATES: Anyone wishing to object to the granting of this license has (15) days from the date of this notice to file written objections along with supporting evidence, if any.

ADDRESSES: Written objections are to be filed with the Office of Naval Research, ONR 00CC, Ballston Tower One, 800 North Quincy St., Arlington, VA 22217-5660.

FOR FURTHER INFORMATION CONTACT: Mr. A. David Spevack, Supervisory Associate Counsel, Intellectual Property, Office of Naval Research, ONR 00CC, Ballston Tower One, 800 North Quincy St., Arlington, VA 22217-5660, telephone (703) 696-4007, E-Mail: spevacd@onr.navy.mil or fax (703) 696-6909.

(Authority: 35 U.S.C. 207, 37 CFR part 404.)
Dated: September 18, 2002.
R.E. Vincent II,
Lieutenant Commander, Judge Advocate General's Corps, U.S. Navy, Federal Register Liaison Officer.

[FR Doc. 02-24584 Filed 9-26-02; 8:45 am]

BILLING CODE 3810-FF-P